OFFICE OF THE UNITED STATES TRADE REPRESENTATIVE

African Growth and Opportunity Act Implementation Subcommittee of the Trade Policy Staff Committee; Extension of Deadline for the Submission of Public Comments on Annual Review of Country Eligibility for Benefits Under the African Growth and Opportunity Act, Title I of the Trade and Development Act of 2000 via Electronic Mail or Facsimile

ACTION: Extension of deadline for submission of comments via E-mail or Fax.

SUMMARY: The African Growth and Opportunity Act Implementation Subcommittee of the Trade Policy Staff Committee (the “Subcommittee”) is extending the deadline for the submission of public comments via fax or e-mail for the annual review of the eligibility of sub-Saharan African countries to receive the benefits of the African Growth and Opportunity Act (“AGOA”) from November 6, 2001, to November 14, 2001.

DATES: The deadline for comments is November 14, 2001.

FOR FURTHER INFORMATION CONTACT: Office of African Affairs, Office of the United States Trade Representative, 600 17th Street, NW, Room 501, Washington DC 20508. Telephone (202) 395-9514.

SUPPLEMENTARY INFORMATION: On October 17, 2001, the Subcommittee published in the Federal Register an extension of the deadline for the submission of written public comments for the annual review of the eligibility of sub-Saharan African countries to receive the benefits of AGOA (“Federal Register notice”). See, 66 FR 52825. According to the Federal Register notice, the deadline for the submission of all written comments was extended to November 6, 2001.

Since the week prior to the publication of the Federal Register notice, all mail delivery to the Office of the United States Trade Representative has been halted due to concerns of possible biological contamination, and it is unclear when deliveries will resume. Consequently, the Subcommittee is hereby extending the deadline for the submission of comments once again until not later than November 14, 2001, in order to permit Parties additional time to submit their comments via electronic mail (“e-mail”) or facsimile (“fax”). Even if a Party has sent its comments via the United States Postal Service or any other delivery service, USTR recommends assuming that they have not been received by USTR and re-submitting the comments via e-mail or fax.

Parties should refer to the original request for comments, published in the Federal Register on September 25, 2001, for an explanation of AGOA, the AGOA eligibility requirements, and a list of current beneficiary and non-beneficiary countries. See, 66 FR 49059. Submissions via e-mail should be sent to FR0003@ustr.gov; submissions via fax should be sent to (202) 395-4505.

Carmen Suro-Bredie,
Chair, Trade Policy Staff Committee.

[FR Doc. 01-28223 Filed 11-6-01; 2:23 pm]

BILLING CODE 3190-01-P